ENVIRONMENTAL PROTECTION AGENCY

[EPA-HQ-OAR-2020-0635; FRL 9323-01-OMS]

Information Collection Request Submitted to OMB for Review and Approval; Comment Request; NESHAP for Primary Copper Smelters (Renewal)

AGENCY: Environmental Protection Agency (EPA).

ACTION: Notice.

SUMMARY: The Environmental Protection Agency (EPA) has submitted an information collection request (ICR), NESHAP for Primary Copper Smelters (EPA ICR No. 1850.09, OMB Control No. 2060-0476), to the Office of Management and Budget (OMB) for review and approval in accordance with the Paperwork Reduction Act. This is a proposed extension of the ICR, which is currently-approved through November 30, 2021. Public comments were previously requested, via the Federal Register on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 3, 2022.

ADDRESSES: Submit your comments, referencing Docket ID Number EPA-HQ-OAR-2020-0635, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Primary Copper Smelters (40 CFR part 63, subpart QQQ) were proposed on April 20, 1998; promulgated on June 6, 2002; and most-recently amended on November 19, 2020. These regulations apply to each existing and new copper concentrate dryer, smelting furnace, slag cleaning vessel, copper converter department, and the entire group of fugitive emission sources located at a primary copper smelter facility that is a major source of hazardous air pollutant (HAP) emissions. Major sources of HAP emissions are sites that emit, or have the potential to emit, any single HAP at a rate of 9.07 megagrams (10 tons) or more per year or any combination of HAPs at a rate of 22.68 megagrams (25 tons) or more per year. New facilities include those that commenced either construction or reconstruction after the date of proposal. This information is being collected to assure compliance with 40 CFR part 63, subpart QQQ.

Form Numbers: None.

Respondents/affected entities: Primary copper smelters.

Respondent's obligation to respond: Mandatory (40 CFR part 63, subpart QQQ).

Estimated number of respondents: 2 (total).

Frequency of response: Semiannually.

Total estimated burden: 6,380 hours (per year). Burden is defined at 5 CFR 1320.3(b).

Total estimated cost: $761,000 (per year), which includes $5,480 in annualized capital/startup and/or operation & maintenance costs.

Changes in the Estimates: There is an overall decrease in burden from the most-recently approved ICR. This increase is not due to any program changes, but is due to a decrease in the estimated number of sources subject to the NESHAP. The Agency has identified, through recent rulemaking efforts, that one of three primary copper smelters located in the United States is no longer a major source of HAP. Therefore, approximately two respondents will be subject to these standards over the three-year period covered by this ICR.

Courtney Kerwin,
Director, Regulatory Support Division.

[FR Doc. 2021-25963 Filed 12-1-21; 8:45 am]

BILLING CODE 6560-50-P